DEPARTMENT OF STATE

[Public Notice 8600]

Shipping Coordinating Committee; Notice of Committee Meeting

The Shipping Coordinating Committee (SHC) will conduct an open meeting at 10:00 a.m. on Tuesday, February 25, 2014, at the offices of the Radio Technical Commission for Maritime Services (RTCM), 1611 N. Kent Street, Suite 605, Arlington, VA 22209. The primary purpose of the meeting is to prepare for the first session of the International Maritime Organization's (IMO) Sub-Committee on Ship Systems and Equipment to be held at the IMO Headquarters, United Kingdom, March 10-14, 2014.

Substantive agenda items to be considered include:

—Development of requirements for ships carrying hydrogen and compressed natural gas vehicles

—Development of amendments to SOLAS regulation II-1/40.2 concerning general requirements on electrical installations

—Smoke control and ventilation

—Development of amendments to SOLAS regulation II-2/20 and associated guidance on air quality management for ventilation of closed vehicle spaces, closed ro-ro and special category spaces

—Development of life safety performance criteria for alternative design and arrangements for fire safety (MSC/Circ. 1002)

—Development of a new framework of requirements for safety objectives and functional requirements for the approval of alternative design and arrangements for SOLAS chapters II-1 (parts C, D and E) and III

—Development of amendments to the LSA Code for thermal performance of immersion suits

—Development of amendments to the LSA Code for free-fall lifeboats with float-free capability

—Development of amendments to the 2009 MODU Code concerning lifeboat drills

—Revision of the Recommendation on conditions for the approval of servicing stations for inflatable liferafts (resolution A.761(18))

—Development of requirements for onboard lifting appliances and winches

—Considerations related to the double sheathed low-pressure fuel pipes for fuel injection systems in engines on crude oil tankers

—Development of amendments to the provisions of SOLAS chapter II-2 relating to secondary means of venting cargo tanks

—Development of amendments to the requirements for foam-type fire-extinguishers in SOLAS regulation II-2/10.5

—Consideration of IACS unified interpretations

—Biennial agenda and provisional agenda for SSE 2

—Any other business

Members of the public may attend this meeting up to the seating capacity of the room. To facilitate the building security process, and to request reasonable accommodation, those who plan to attend should contact the meeting coordinator, Mr. Randall Eberly, by email at randall.eberly@uscg.mil, by phone at (202) 372-1393, by fax at (202) 372-8379, or in writing at Commandant (CG-ENG-4), U.S. Coast Guard, 2703 Martin Luther King Jr Ave. SE., Stop 7509, Washington, DC 20593-7509 not later than February 18, 2014, 7 days prior to the meeting. Requests made after February 18, 2014, might not be able to be accommodated. RTCM Headquarters is adjacent to the Rosslyn Metro station. For further directions and lodging information, please see: http://www.rtcm.org/visit.php. Additional information regarding this and other IMO SHC public meetings may be found at: www.uscg.mil/imo.

Dated: January 13, 2014.
Marc Zlomek,
Executive Secretary, Shipping Coordinating Committee, Department of State.

[FR Doc. 2014-01162 Filed 1-21-14; 8:45 am]

BILLING CODE 4710-09-P